DEPARTMENT OF AGRICULTURE

Commodity Credit Corporation

Extension of Repayment Period for Advance Direct and Counter-Cyclical Program Payments

AGENCY: Commodity Credit Corporation, USDA.

ACTION: Notice.

SUMMARY: This notice extends until October 31, 2005, the period in which CCC will automatically reduce any Direct and Counter-Cyclical Payments (DCP) to satisfy a producer's obligation to repay unearned 2003-crop advance counter-cyclical payments. Scheduled payments received during this period include 2004-crop final direct payments, 2004-crop advance counter-cyclical payments, and 2005-crop advance direct payments.

EFFECTIVE DATE: March 21, 2005.

FOR FURTHER INFORMATION CONTACT: Diane Sharp, Director, Production, Emergencies, and Compliance Division, Farm Service Agency, USDA, STOP 0517, 1400 Independence Avenue, SW., Washington, DC 20250-0517. Persons with disabilities who require alternative means for communication (Braille, large print, audiotape, etc.) should contact the USDA Target Center at (202) 720-2600 (voice and TDD).

SUPPLEMENTARY INFORMATION: The Farm Security and Rural Investment Act of 2002 (7 U.S.C. 7911-7918, 7951-7956) provides for counter-cyclical payments for covered commodities and peanuts beginning with crop year 2002. Under section 1412.503(f) of 7 CFR part 1412, CCC issues advance counter-cyclical program payments when the target price for the commodity exceeds the projected effective price. The effective price equals the direct payment rate plus the higher of the national average market price received by producers during the 12-month marketing year for the covered commodity or peanuts, or the national average loan rate for a marketing assistance loan for the covered commodity or peanuts in effect for the applicable period. Under section 1412.503(i)(2) of 7 CFR part 1412, a producer must refund to CCC any amounts representing payments that exceed the payments determined by CCC to have been earned under the program. Accordingly, producers participating in DCP were notified by letter dated May 3, 2004, that if market prices continued near then current levels, they may be required to refund all or a portion of the 2003 counter-cyclical payments they received for some crops.

Producers with advance overpayments were offered a refund option under which CCC would automatically reduce any DCP payments received between October 2004 and March 2005 to satisfy an obligation to repay unearned 2003-crop advance counter-cyclical payments. This notice extends, until October 31, 2005, the period in which CCC will automatically reduce any Direct and Counter-Cyclical Payments (DCP) to satisfy a producer's obligation to repay unearned 2003-crop advance counter-cyclical payments. Scheduled payments received during this period include 2004-crop final direct payments, 2004-crop advance counter-cyclical payments, and 2005-crop advance direct payments.

If the above scheduled DCP payments are insufficient to repay the total unearned advances, CCC will notify applicable producers in November 2005 that the refunds will be collected using the procedures established under the Debt Collection Improvement Act of 1996.

Signed in Washington, DC, on March 8, 2005.
James R. Little,
Administrator, Farm Service Agency.

[FR Doc. 05-5462 Filed 3-18-05; 8:45 am]

BILLING CODE 3410-05-P